DEPARTMENT OF THE TREASURY

Submission for OMB Review; Comment Request

January 8, 2010.

The Department of Treasury will submit the following public information collection requirements to OMB for review and clearance under the Paperwork Reduction Act of 1995, Public Law 104-13 on or after the date of publication of this notice. A copy of this submission may be obtained by calling the Treasury Bureau Clearance Officer listed. Comments regarding this information collection should be addressed to the OMB reviewer listed and to the Treasury PRA Clearance Officer, Department of the Treasury, 1750 Pennsylvania Avenue, NW., Suite 11010, Washington, DC 20220.

Dates: Written comments should be received on or before February 16, 2010 to be assured of consideration.

Internal Revenue Service (IRS)

OMB Number: 1545-NEW.

Type of Review: New collection.

Title: Tax Return Preparer Complaint.

Form: Not yet assigned.

Description: This form will be used by taxpayers to report allegations of misconduct by tax return preparers. The form was created specifically for tax return preparer complaints and includes items necessary for the IRS to effectively evaluate the complaint and route to the appropriate function.

Respondents: Businesses or other for-profits.

Estimated Total Burden Hours: 1,500 hours.

OMB Number: 1545-NEW

Type of Review: New collection.

Title: Authorized Cyber Assistant Host Application.

Form: Not yet assigned.

Description: The form is used by a business to apply to become an Authorized Cyber Assistant Host. Information on this form will be used to assist in determining whether the applicant meets the qualifications to become a Cyber Assistant Host. Cyber Assistant is a software program that assists in the preparation of Form 1023, Application for Recognition of Exemption, under Section 501(c)(3).

Respondents: Private sector: Businesses or other for-profits; not-for-profit institutions.

Estimated Total Burden Hours: 200 hours.

OMB Number: 1545-NEW.

Type of Review: Existing collection without an OMB Control Number.

Title: Form 5316—Application for Group or Pooled Trust Ruling.

Form: 5316.

Description: Group/pooled trust sponsors file this form to request a determination letter from the IRS for a determination that the trust is a group trust arrangement as described in Rev. Rul. 81-100, 1981-1 C.B. 326 as modified and clarified by Rev. Rul. 2004-67, 2004-28 I.R.B.

Respondents: State, Local, and Tribal Governments.

Estimated Total Burden Hours: 3,800 hours.

Bureau Clearance Officer: R. Joseph Durbala, Internal Revenue Service, 1111 Constitution Avenue, NW., Room 6129, Washington, DC 20224; (202) 622-3634.

OMB Reviewer: Shagufta Ahmed, Office of Management and Budget, New Executive Office Building, Room 10235, Washington, DC 20503; (202) 395-7873.

Dawn D. Wolfgang,
Treasury PRA Clearance Officer.

[FR Doc. 2010-557 Filed 1-13-10; 8:45 am]

BILLING CODE 4830-01-P